DEPARTMENT OF TRANSPORTATION

Federal Transit Administration

Environmental Impact Statement for the Salt Lake City—Weber County Regional Transportation Corridor Project

AGENCY: Federal Transit Administration (FTA), Department of Transportation (DOT).

ACTION: Notice of intent to prepare an environmental impact statement.

SUMMARY: The Federal Transit Administration (FTA), in cooperation with the Utah Transit Authority (UTA), is issuing this notice to advise interested agencies and the public that, in accordance with the National Environmental Policy Act (NEPA), an Environmental Impact Statement (EIS) will be prepared for the proposed Salt Lake City—Weber County Regional Transportation Corridor project located in Weber, Davis, and Salt Lake Counties, Utah. An Environmental Impact Statement will be prepared to evaluate transportation improvements, including a potential commuter rail line, in the Salt Lake City-Weber County Regional Transportation Corridor.

A commuter rail transit alternative (i.e., the Build Alternative), a No-Build Alternative, and any additional alternatives emerging from the Scoping Process will be evaluated. The EIS will consider any reasonable alternatives identified during scoping that provide similar transportation benefits while reducing or avoiding adverse impacts. Scoping will be accomplished through coordination with interested persons, organizations, and federal, state and local agencies. Three (3) public scoping meetings, one meeting in each of the three counties, and one (1) interagency scoping meeting are currently planned.

Based on the results of the Scoping Process, FTA will make the following determinations regarding the environmental review under NEPA:

1. Identification of environmental issues to be addressed;

2. Refinement of the alternatives for evaluation.

DATES: Public and agency scoping meetings will be held November 15 to 22, 2002.

Agency Scoping Meeting: November 15, 2002.

Public Scoping Meeting: November 19, 2002.

Public Scoping Meeting: November 20, 2002.

Public Scoping Meeting: November 21, 2002.

ADDRESSES: Written comments on the project should be sent to Michelle Rust, Strategic Planner, Utah Transit Authority, 3600 South 700 West, Salt Lake City, Utah 84130 (801) 262-5626, ext. 3255.

FOR FURTHER INFORMATION, CONTACT: Don Cover, Federal Transit Administration, 216-16th Street, Suite 650, Denver, Colorado 80202. Phone: (303)844-2174.

SUPPLEMENTARY INFORMATION:

I. Scoping

UTA will hold the Interagency Scoping meeting November 15, 2002 from 8:30 A.M to 10:30 A.M. at UTA's Meadowbrook Offices, in the Board Room, located at 3600 South 700 West, Salt Lake City, UT 84130. This location is accessible to individuals with disabilities. Individuals with special needs should contact Sherry L. Repscher, ADA Compliance Officer, UTA, 3600 South 700 West, Salt Lake City, Utah 84130 (801)-262-5626.

UTA will hold the following Public Scoping Meetings:

1. November 19, 2002 from 4 p.m. to 7 p.m. at the Davis County Library-North Branch located at 562 South 1000 East, Clearfield, UT 84015. This location is accessible to individuals with disabilities. Individuals with special needs should contact Sherry L. Repscher, ADA Compliance Officer, UTA, 3600 South 700 West, Salt Lake City, Utah 84130 (801)-262-5626.

2. November 20, 2002 from 4 p.m. to 7 p.m. at the Union Pacific Depot at the Gateway, located at 450 West 100 South, Salt Lake City, Utah 84101. The meeting location is service by the UTA TRAX Delta Center Station and is accessible to individuals with disabilities.

3. November 21, 2002 from 4 p.m. to 7 p.m. at the Ogden Union Station located at 2501 Wall Avenue, Ogden, Utah 84401. This location is also accessible to individuals with disabilities.

Interested individuals, organizations, and public agencies are invited to attend the Scoping Meetings. The purpose of the Scoping Meetings is: (1) To determine the scope of the NEPA evaluation including the identification of significant environmental or community issues and alternatives that would reduce or eliminate adverse impacts; and (2) to eliminate issues which are not significant or which have already been evaluated by the prior environmental review, the Inter-Regional Corridor Alternatives Analysis. An information packet, referred to as the Scoping Booklet, will be distributed to all public agencies and interested individuals and will be available at the meetings. Others may request the Scoping Booklet by contacting Michelle Rust of UTA at the address listed above in ADDRESSES.

If you wish to be placed on the mailing list to receive further information as the project develops, contact: Michelle Rust, Strategic Planner, Utah Transit Authority, 3600 South 700 West, Salt Lake City, Utah 84130 (801) 262-5626, ext. 3255.

II. Description of the Study Area and Project Need

The Weber County to Salt Lake City project corridor is centered on an existing rail corridor through Weber, Davis, and Salt Lake Counties. During the preparation of the Draft Environmental Impact Statement (EIS) UTA plans to submit an initial section 5309 New Starts evaluation to FTA in accordance with 49 CFR part 611, and request FTA approval to initiate Preliminary Engineering for the proposed commuter rail line. The Final EIS will reflect the results of Preliminary Engineering.

Recent passage of a ¼ cent regional sales tax increase indicates broad public support for expansion and improvement of transit services throughout Weber, Salt Lake, and Davis Counties. The project has undergone more than five years of planning and alternatives analysis conducted by the two Metropolitan Planning Organizations, Wasatch Front Regional Council (WFRC) and Mountainland Association of Governments (MAG), in association with UDOT and UTA. It has been included in the financially constrained Long-Range Transportation Plan most recently adopted by WFRC, in September 2001.

III. Alternatives

The Utah Transit Authority, the Wasatch Front Regional Council, the Mountainlands Association of Governments, and the Utah Department of Transportation conducted an alternatives analysis entitled the Inter-Regional Corridor Alternatives Analysis which looked at transit alternatives in a corridor from Brigham City to Payson in Utah. The alternatives considered included commuter rail, light rail and express bus. While the corridor covered by the Inter-Regional Corridor Alternatives Analysis was longer than the project proposed, the Study did completely encompass the Salt Lake City to Weber County corridor now being studied and recommended that the Commuter Rail Alternative be pursued. The Inter-Regional Corridor Alternatives Analysis (IRCAA) concluded that light rail and bus alternatives should be eliminated from further consideration. The analysis of the IRCAA will be incorporated into the EIS. During Scoping, that document is available for public review by contacting Michelle Rust of UTA at the address and phone number given above in ADDRESSES.

UTA and FTA are planning to evaluate the following two alternatives (and any others that emerge as the result of scoping) in the EIS:

• No Build Alternative: This alternative assumes that there will be no change in transportation services or facilities in the corridor beyond already committed projects. It includes the highway and transit improvements defined in the two MPOs' financially constrained Long-Range Transportation Plans but with the proposed commuter rail project removed and replaced by bus service comparable to the bus service levels in other similar parts of the metropolitan area. It includes the recently completed Intermodal Center in Ogden and the Intermodal Center in Salt Lake City, which is under development.

• Build Alternative: The Build Alternative consists of new commuter rail service from northern Weber County, through the recently completed Intermodal Center in Ogden to the Intermodal Center in Salt Lake City, which is under development. Intermediate stops are planned along the route. Ridership and costs have been estimated with the assumption that peak period and off-peak service would be provided in both directions along the line, even though the majority of the line will have single track. The distance between Ogden and Salt Lake City is approximately 37 miles.

IV. Probable Effects/Potential Impacts for Analysis

Among the primary transit issues to be evaluated are the effects on transit ridership and mobility for the corridor's transit dependent residents, the role of the project in a regional transit network that supports the region's air quality goals, capital outlays needed to construct the project, cost of operating and maintaining the facilities created by the project, and the financial impacts on the funding agencies.

In accordance with NEPA, the impacts on potentially affected environmental and social resources will be considered, including land use and neighborhood impacts, residential and business displacements and relocations, traffic and parking impacts near stations, traffic circulation, visual impacts, impacts on cultural and archaeological resources, and noise and vibration impacts. Impacts on air and water quality, groundwater, hazardous waste sites, and water resources will also be examined. The impacts will be evaluated both for the construction period and for the long-term period of operation to include direct, indirect, and cumulative analysis. Measures to mitigate adverse impacts will be considered.

V. FTA Procedures

The EIS will be prepared in accordance with NEPA and its implementing regulations including those of the Council on Environmental Quality (CEQ) implementing NEPA (40 CFR parts 1500-1508), and the FTA regulation on environmental procedures shared with the Federal Highway Administration (23 CFR part 771). The NEPA process will also be used to comply with the requirements of the Clean Air Act Amendments of 1990 (CAAA) and with Executive Order 12898 on Environmental Justice. After publication, the draft NEPA document will be available for comment by the public and other agencies. The final NEPA review will consider the public and agency comments received during the public circulation of the draft EIS, will refine the project as appropriate in response to the comments, will continue with Preliminary Engineering of the Project, and will develop the preferred alternative, including committed mitigation measures. Opportunity for additional public comment will be provided throughout all phases of the project development, and will be announced through the mailing list, on the project Web site, or by other means.

Issued on: October 30, 2002.
Lee O. Waddleton,
Regional Administrator, Federal Transit Administration.

[FR Doc. 02-28245 Filed 11-5-02; 8:45 am]

BILLING CODE 4910-57-P